DEPARTMENT OF TRANSPORTATION

Federal Highway Administration

Notice of Final Federal Agency Actions on Proposed New Bridge and Roadway Improvements in Perry and Leroy Townships, Lake County, Ohio

AGENCY: Federal Highway Administration (FHWA), DOT.

ACTION: Notice of Limitation on Claims for Judicial Review of Actions by FHWA.

SUMMARY: This notice announces actions taken by the FHWA that are final within the meaning of 23 U.S.C. 139(l)(1). The actions relate to a proposed project to replace the existing Vrooman Road Bridge over the Grand River with a new bridge to be located approximately 1,000 feet upstream of the existing structure and improve Vrooman Road between Interstate (I) 90 and State Route (SR) 84. Those actions grant approvals for the project.

DATES: A claim seeking judicial review of the Federal agency actions on the highway project will be barred unless the claim is filed on or before November 10, 2014. If the Federal law that authorizes judicial review of a claim provides a time period of less than 150 days for filing such claim, then that shorter time period still applies.

FOR FURTHER INFORMATION CONTACT: Ms. Carmen M. Stemen, Planning and Environment Specialist, Federal Highway Administration, 200 North High Street, Columbus, Ohio 43215; telephone: (614) 280-6848; or Mr. Tom Sorge, Project Manager, Ohio Department of Transportation (ODOT), 5500 Transportation Blvd., Garfield Heights, Ohio 44125; telephone: (216) 584-2108.

SUPPLEMENTARY INFORMATION: Notice is hereby given that the FHWA has taken final agency actions by issuing approvals for the following major highway improvements in the State of Ohio: The Vrooman Road Bridge and Roadway Improvement project. The project meets purpose of providing a safe and adequate transportation facility that addresses the deficient condition and design of the existing Vrooman Road bridge, eliminates flooding of the existing bridge and approach roadway, addresses deficient design elements of existing Vrooman Road and its intersections, improves the safety of the study area and maintains connectivity. Vrooman Rd., also known as County Route (CR) 227, traverses portions of Leroy and Perry Townships in Lake County, Ohio. Vrooman Rd. is approximately 3.05 miles long extending from its southern terminus intersection with State Route (SR) 86, CR 208, and CR 210 in Leroy Township, to its northern terminus, SR 84, in Perry Township. The project involves replacing the existing Vrooman Road Bridge over the Grand River with a new bridge to be located approximately 1,000 feet upstream of the existing structure and improving Vrooman Road to current design standards between Interstate (I) 90 and State Route (SR) 84 and upgrading intersections at SR 84. Additional amenities and mitigation measures are also provided. The actions by the Federal agencies, and the laws under which such actions were taken, are described in the Environmental Assessment (EA) of the project, approved on September 4, 2013, and the Finding of No Significant Impacts (FONSI), approved on May 29, 2014 and in other documents in the FHWA administrative record. The EA/FONSI and other documents in the FHWA administrative record are available by contacting the FHWA or ODOT at the addresses provided above or at http://www.dot.state.oh.us/districts/D12/PlanningEngineering/Pages/VroomanRoadBridge.aspx. This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act, 33 U.S.C. 1251-1377 (Section 404, Section 401, Section 319); Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

Catalog of Federal Domestic Assistance Number and Title: FHWA 20.205, Highway Planning and Construction (A, B). The regulations implementing Executive Order 12372 regarding intergovernmental consultation on Federal programs and activities apply to this program.

Authority: 23 U.S.C. 139(l)(1); Sec. 1308, Pub. L. 112-141, 126 Stat. 405.

Dated: June 3, 2014.
Laura S. Leffler,
Division Administrator, Columbus, Ohio.

[FR Doc. 2014-13596 Filed 6-12-14; 8:45 am]

BILLING CODE 4910-22-P